CIVIL RIGHTS COLD CASE RECORDS REVIEW BOARD

[Agency Docket Number: CRCCRRB-2025-0004-N]

Notice of Formal Determination on Records Release

AGENCY: Civil Rights Cold Case Records Review Board.

ACTION: Notice.

SUMMARY: The Civil Rights Cold Case Records Review Board received 265 pages of records from the National Archives and Records Administration (NARA), the Department of Justice, and the Federal Bureau of Investigation (FBI) related to four civil rights cold case incidents. The Review Board assigned the unique identifiers 2023-002-007, 2024-003-025, 2024-003-040, and 2024-003-044 to the incidents. The Department of Justice and the FBI proposed postponements of disclosure for records related to incident 2023-002-007. No postponements of disclosure were proposed for records related to the other three incidents. On November 22, 2024, the Review Board determined that 238 pages in full and 27 pages in part should be publicly disclosed in the Civil Rights Cold Case Records Collection. The Review Board approved 129 postponements proposed by the Department of Justice and the FBI. The Board is still considering 4 postponements proposed by the FBI. By issuing this notice, the Review Board complies with section 7(c)(4) of the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2023-002-007 | 2024-DOJ-02-0001 through 2024-DOJ-02-0007 | Approve.
2023-002-007 | 2024-DOJ-02-0008 through 2024-DOJ-02-0011 | Reject.
2023-002-007 | 2024-DOJ-02-0012 through 2024-DOJ-02-0034 | Approve.
2023-002-007 | 2024-DOJ-02-0035 through 2024-DOJ-02-0039 | Disapprove.
2023-002-007 | 2024-DOJ-02-0040 and 2024-DOJ-02-0041 | Approve.
2023-002-007 | 2024-DOJ-02-0042 | Reject.
2023-002-007 | 2024-DOJ-02-0043 | Approve.
2023-002-007 | 2024-DOJ-02-0044 and 2024-DOJ-02-0045 | Reject.
2023-002-007 | 2024-DOJ-02-0046 through 2024-DOJ-02-0048 | Approve.
2023-002-007 | 2024-DOJ-02-0049 | Approve with changes.
2023-002-007 | 2024-DOJ-02-0050 through 2024-DOJ-02-0052 | Approve.
2023-002-007 | 2024-DOJ-02-0053 | Approve with changes.
2023-002-007 | 2024-DOJ-02-0054 and 2024-DOJ-02-0055 | Reject.
2023-002-007 | 2024-DOJ-02-0056 | Approve.
2023-002-007 | 2024-DOJ-02-0057 | Reject.
2023-002-007 | 2024-DOJ-02-0058 | Approve.
2023-002-007 | 2024-DOJ-02-0059 | Reject.
2023-002-007 | 2024-DOJ-02-0060 through 2024-DOJ-02-0067 | Approve.
2023-002-007 | 2024-FBI-02-0001 and 2024-FBI-02-0002 | Approve.
2023-002-007 | 2024-FBI-02-0003 | Reject.
2023-002-007 | 2024-FBI-02-0004 | Approve.
2023-002-007 | 2024-FBI-02-0005 through 2024-FBI-02-0008 | Reject.
2023-002-007 | 2024-FBI-02-0009 and 2024-FBI-02-0010 | Approve.
2023-002-007 | 2024-FBI-02-0011 | Reject.
2023-002-007 | 2024-FBI-02-0012 | Approve.
2023-002-007 | 2024-FBI-02-0013 | Reject.
2023-002-007 | 2024-FBI-02-0014 | Approve.
2023-002-007 | 2024-FBI-02-0015 through 2024-FBI-02-0035 | Reject.
2023-002-007 | 2024-FBI-02-0036 through 2024-FBI-02-0039 | Approve.
2023-002-007 | 2024-FBI-02-0040 and 2024-FBI-02-0041 | Reject.
2023-002-007 | 2024-FBI-02-0042 through 2024-FBI-02-0047 | Approve.
2023-002-007 | 2024-FBI-02-0048 | Reject.
2023-002-007 | 2024-FBI-02-0049 through 2024-FBI-02-0053 | Approve.
2023-002-007 | 2024-FBI-02-0054 | Reject.
2023-002-007 | 2024-FBI-02-0055 | Approve.
2023-002-007 | 2024-FBI-02-0056 | Reject.
2023-002-007 | 2024-FBI-02-0057 and 2024-FBI-02-0058 | Approve.
2023-002-007 | 2024-FBI-02-0059 | Approve with changes.
2023-002-007 | 2024-FBI-02-0060 and 2024-FBI-02-0061 | Approve.
2023-002-007 | 2024-FBI-02-0062 | Approve with changes.
2023-002-007 | 2024-FBI-02-0063 | Reject.
2023-002-007 | 2024-FBI-02-0064 and 2024-FBI-02-0065 | Approve.
2023-002-007 | 2024-FBI-02-0066 | Approve with changes.
2023-002-007 | 2024-FBI-02-0067 | Reject.
2023-002-007 | 2024-FBI-02-0068 and 2024-FBI-02-0069 | Approve.
2023-002-007 | 2024-FBI-02-0070 | Approve with changes.
2023-002-007 | 2024-FBI-02-0071 | Reject.
2023-002-007 | 2024-FBI-02-0072 | Approve.
2023-002-007 | 2024-FBI-02-0073 | Reject.
2023-002-007 | 2024-FBI-02-0074 and 2024-FBI-02-0075 | Approve.
2023-002-007 | 2024-FBI-02-0076 through 2024-FBI-02-0078 | Reject.
2023-002-007 | 2024-FBI-02-0079 and 2024-FBI-02-0080 | Approve.
2023-002-007 | 2024-FBI-02-0081 and 2024-FBI-02-0082 | Reject.
2023-002-007 | 2024-FBI-02-0083 and 2024-FBI-02-0084 | Approve.
2023-002-007 | 2024-FBI-02-0085 through 2024-FBI-02-0090 | Reject.
2023-002-007 | 2024-FBI-02-0091 through 2024-FBI-02-0121 | Approve.
2023-002-007 | 2024-FBI-02-0122 through 2024-FBI-02-0126 | Reject.
2023-002-007 | 2024-FBI-02-0128 | Approve.
2023-002-007 | 2024-FBI-02-0129 | Reject.
2023-002-007 | 2024-FBI-02-0132 | Reject.
2023-002-007 | 2024-FBI-02-0133 | Approve.
2023-002-007 | 2024-FBI-02-0134 through 2024-FBI-02-0136 | Reject.
2023-002-007 | 2024-FBI-02-0137 and 2024-FBI-02-0138 | Approve.
2023-002-007 | 2024-FBI-02-0139 | Reject.
2023-002-007 | 2024-FBI-02-0141 and 2024-FBI-02-0142 | Reject.
2023-002-007 | 2024-FBI-02-0143 | Accept.
2023-002-007 | 2024-FBI-02-0144 and 2024-FBI-02-0145 | Reject.

Authority: Pub. L. 115-426, 132 Stat. 5489 (44 U.S.C. 2107).

Dated: December 3, 2024.
Stephannie Oriabure,
Chief of Staff.

[FR Doc. 2024-28702 Filed 12-5-24; 8:45 am]

BILLING CODE 6820-SY-P